DEPARTMENT OF HEALTH AND HUMAN SERVICES

Centers for Disease Control and Prevention

[60Day-10-10AA]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

National Occupational Safety and Health Professional Workforce Assessment: Employer and Education Provider Survey Data Collection—New—National Institute for Occupational Safety and Health (NIOSH), Centers for Disease Control and Prevention (CDC).

Background and Brief Description

The mission of the NIOSH is to generate new knowledge in the field of occupational safety and health (OS&H) and to transfer that knowledge into practice for the betterment of workers. Developing and supporting a new generation of practitioners is critical to the future of occupational safety and health. As part of its mission to increase safety and protect worker health, NIOSH funds programs to support occupational safety and health education through 17 regional university-based Education and Research Centers and 31 Training Project grants that train occupational safety and health professionals to meet the increasing demand for these professionals.

Because of this central role NIOSH plays in the education and training of OS&H workers and because of the continually changing nature of the workplace, over the last 38 years NIOSH has sponsored 3 OS&H workforce assessments. These were conducted in 1977 and 1985 by NIOSH; and in 2000 the Institute of Medicine conducted a workforce assessment at NIOSH's request. NIOSH is planning to perform another assessment to examine the current and anticipated future professional OS&H workforce. The assessment will attempt to collect information from two groups—employers of OS&H professionals and providers of training programs for OS&H professionals.

The information collected from employers will concern the current supply and future demand for OS&H professionals; and the desired professional competencies (i.e., knowledge, skills, and abilities) required for the coming decade.

To ensure that the overall proposed methodology for collecting information from employers is successful in collecting the information required, we will conduct a phase I study with a small group of employers. Should any needed methodological changes be identified, NIOSH will submit a request for modification to OMB. If no substantive methodological changes are required, the phase II study will proceed and the phase I data will be included in the phase II study data set. It is expected that approximately 744 employers will have to be screened in Phase I and 6,681 in Phase II to yield approximately 400 employer responses (40 in the employer phase I, 360 in the employer phase II study).

The initial step in the study of employers will be to sample the total number of establishments needed for screening. The phase I portion of employers then will be conducted using approximately 744 of the establishments sampled and the following methodology:

• A telephone screening to identify employers of OS&H professionals will be conducted. During the screening to identify employers of OS&H professionals, we will also obtain contact information for the most appropriate respondent. It is expected that the appropriate respondent will be the Human Resources Administrator for the employer.

• A letter describing the study will be mailed to all eligible phase I establishments inviting them to participate, and providing Web access information.

• Data collection then will be primarily by web questionnaire. After two weeks, all non-respondents will receive a special delivery service envelope containing another copy of the invitation letter. Two weeks later, telephone contact with non-respondents will begin. Up to 7 attempts to contact each potential respondent by telephone will be made. (When contact is made, respondents will be encouraged to complete the questionnaire on the Web or by telephone at that time.)

Assuming no methodological changes result from the phase I study, the phase II employer study then will begin with telephone screening of an additional 6,681 establishments. The data collection methodology will be identical to that described for the phase I study of employers.

The study of educational providers will be a census of the approximately 400 educational providers identified and listed as part of this effort. There will be no sampling or screening activities. The information collected will be similar to that collected from employers. Beginning with the invitation letter, the data collection methodology for educational providers will be identical to that of the phase II study of the employers. We expect 180 educational providers to respond to either the Web or telephone questionnaire.

There is no cost to any respondents other than their time.

Estimated Annualized Burden Hours
Type of respondent | Form name | Number of respondents | Average number of responses per respondent | Average burden per response in hours | Total burden hours
Human Resources Administrator | Employer Phase I Screening | 744 | 1 | 5/60 | 62
Human Resources Administrator | Employer Phase I Questionnaire (Web or Telephone) | 40 | 1 | 32/60 | 21
Human Resources Administrator | Employer Phase II Screening | 6,681 | 1 | 5/60 | 557
Human Resources Administrator | Employer Phase II Questionnaire (Web or Telephone) | 360 | 1 | 32/60 | 192
Education Administrator | Provider Questionnaire (Web or Telephone) | 180 | 1 | 22/60 | 66
Total |  |  |  |  | 898

Dated: November 6, 2009.
Maryam I. Daneshvar,
Acting Reports Clearance Officer, Centers for Disease Control and Prevention.

[FR Doc. E9-27334 Filed 11-12-09; 8:45 am]

BILLING CODE 4163-18-P